DEPARTMENT OF TRANSPORTATION

Federal Aviation Administration

Notice of Opportunity for Public Comment on Release of Federal Property at Columbia Metropolitan Airport, Columbia, SC

AGENCY: Federal Aviation Administration (FAA), DOT.

ACTION: Notice.

SUMMARY: Under the provisions of Title 49, U.S.C. Section 47153(c), notice is being given that the FAA is considering a request from the Richland-Lexington Airport District to waive the requirement that a 3.95 acre parcel of Federal property, located at the Columbia Metropolitan Airport, be used for aeronautical purposes.

DATES: Comments must be received on or before September 4, 2002.

ADDRESSES: Comments on this notice may be mailed or delivered in triplicate to the FAA at the following address: Atlanta Airports District Office, Attn: Aimee A. McCormick, Program Manager, 1701 Columbia Ave., Suite 2-260, Atlanta, GA 30337-2747.

In addition, one copy of any comments submitted to the FAA must be mailed or delivered to Frank Manning, General Council for Richland-Lexington Airport District at the following address:

125-A Summer Lake Drive

West Columbia, SC 29170

FOR FURTHER INFORMATION CONTACT: Aimes McCormick, Program Manager, Atlanta Airports District Office, 1701 Columbia Ave., Suite 2-260, Atlanta, GA 30337-2747, (404) 305-7153. The application may be reviewed in person at this same location.

SUPPLEMENTARY INFORMATION: The FAA is reviewing a request by the Richland-Lexington Airport District to release 3.95 acres of Federal property at the Columbia Metropolitan Airport. The property will be released for purchase of compatible, industrial development. The net proceeds from the sale of this property will be used for airport purposes. The proposed use of this property is compatible with airport operations.

Any person may inspect the request in person at the FAA office listed above under FOR FURTHER INFORMATION CONTACT. In addition, any person may, upon request, inspect the request, notice and other documents germane to the request in person at the Richland-Lexington Airport District.

Issued in Atlanta, Georgia on July 19, 2002.
Scott L. Seritt,
Manager, Atlanta Airports District Office, Southern Region.

[FR Doc. 02-19676 Filed 8-2-02; 8:45 am]

BILLING CODE 4910-13-M